DEPARTMENT OF TRANSPORTATION

Federal Aviation Administration

Notice of Intent To Rule on Application 04-06-C-GFK To Impose and Use the Revenue From a Passenger Facility Charge (PFC) at Grand Forks International Airport, Grand Forks, North Dakota.

AGENCY: Federal Aviation Administration (FAA), DOT.

ACTION: Notice of intent to rule on application.

SUMMARY: The FAA proposes to rule and invites public comment on the application to impose and use the revenue from a PFC at Grand Forks International Airport under the provisions of the 49 U.S.C. 40117 and part 158 of the Federal Aviation Regulations 914 CFR part 158).

DATES: Comments must be received on or before February 17, 2004.

ADDRESSES: Comments on this application may be mailed or delivered in triplicate to the FAA at the following address: Bismarck Airports District Office, 2301 University Drive, Building 23B, Bismarck, North Dakota 58504.

In addition, one copy of any comments submitted to the FAA must be mailed or delivered to Ms. Mary Jo Crystal of the Grand Forks Regional Airport Authority at the following address: 2787 Airports Drive, Grand Forks, North Dakota 58203.

Air carriers and foreign air carriers may submit copies of written comments previously provided to the Grand Forks Regional Airport Authority under section 158.23 of part 158.

FOR FURTHER INFORMATION CONTACT: Mr. Thomas T. Schauer, Program Manager, Bismarck Airports District Office, 2301 University Drive, Building 23B, Bismarck, North Dakota 58504, (701) 323-7380. The application may be reviewed in person at this same location.

SUPPLEMENTARY INFORMATION: The FAA proposes to rule and invites public comment on the application to impose and use the revenue from a PFC at Grand Forks International Airport under the provisions of the 49 U.S.C. 40117 and part 158 of the Federal Aviation Regulations (14 CFR part 158).

On December 16, 2003, the FAA determined that the application to impose and use the revenue from a PFC submitted by Grand Forks Regional Airport Authority was substantially complete within the requirements of section 158.25 of part 158. The FAA will approve or disapprove the application, in whole or in part, no later than March 18, 2004.

The following is a brief overview of the application.

Proposed charge effective date: February 1, 2004.

Proposed charge expiration date: April 30, 2008.

Level of the proposed PFC: $4.50.

Total estimated PFC revenue: $1,486,521.

Brief description of proposed projects: (1) Ecological Study, (2) Rehabilitate “C” Apron Phase 1 and 2, (3) Rehabilitate Runway 17R/35L and Improve Runway Safety Area, (4) Master Plan Update, (5) Security Fencing Phase 1 and 2, (6) Acquire Land for runway protection zone (RPZ), (7) Reconstruct T-Hangar Taxiway, (8) Reconstruct “B” Apron, (9) Runway 35L/17R Rejuvenation, (10) Passenger Terminal Area Study, (11) Reconstruct “A” Apron, (12) Rehabilitate Entrance Road, (13) Reconstruct “U” Taxiway, (14) Acquire Aircraft Rescue and Fire Fighting Vehicle, (15) Snow Removal Equipment, (16) Construct Rotary Wing Aircraft Parking Apron, (17) Rehabilitate Runway 35R/17L and Taxiway “C”. Class or classes of air carriers, which the public agency has requested, not be required to collect PFCs: Air Taxi/Commercial Operators filing FAA Form 1800-31.

Any person may inspect the application in person at the FAA office listed above under FOR FURTHER INFORMATION CONTACT.

In addition, any person may, upon request, inspect the application, notice and other documents germane to the application in person at the Grand Forks Regional Airport Authority.

Issued in Des Plaines, Illinois on January 8, 2004.
Barbara Jordan,
Acting Manager, Planning and Programming Branch, Airports Division, Great Lakes Region.

[FR Doc. 04-921 Filed 1-14-04; 8:45 am]

BILLING CODE 4910-13-M